DEPARTMENT OF HEALTH AND HUMAN SERVICES

Office of the Secretary

Funding Opportunity Title: Conference Support Grant Program for Family Planning Public Education and Information Activities

Announcement Type: Competitive Grant—Initial.

CFDA Number: 93.217.

DATES: To receive consideration, applications must be received by the Office of Public Health and Science (OPHS) Office of Grants Management no later than July 6, 2004.

SUMMARY: The Office of Family Planning (OFP), Office of Population Affairs (OPA), announces the availability of fiscal year (FY) 2004 funds for a grant program for family planning public education and information conference support. Three to five grants will be awarded to provide partial support for non-Federal conference activities in topic areas relevant to the delivery of family planning services. Successful applicants will conduct public education and information activities (as part of a larger conference) that will enhance and support the mission of the Title X family planning program.

I. Funding Opportunity Description

This announcement seeks proposals from public and private non-profit entities for the purpose of providing partial support for specific non-Federal one-time conference program activities in the area of family planning and related preventive health. A conference is a symposium, seminar, workshop, or any other organized and formal meeting lasting one day or more, where persons assemble to exchange information and views, explore, or clarify a defined subject, problem, or area of knowledge, whether or not a published report results from such meeting. The OFP will not consider applications which seek funding for a series of conferences. The funding conference program activity or activities should support OFP principles in furtherance of the family planning program mission.

Title X of the Public Health Service Act, 42 U.S.C. 300, et seq., authorizes grants for projects to provide family planning services to persons from low-income families and others. Section 1001 of the Act, as amended, authorizes grants “to assist in the establishment and operation of voluntary family planning projects which shall offer a broad range of acceptable and effective family planning methods and services (including natural family planning methods, infertility services, and services for adolescents).” Section 1005 of the Act, as amended, authorizes the Secretary to make grants to public or nonprofit private entities “to assist in developing and making available family planning and population growth information (including educational materials) to all persons desiring such information (or materials).”

Conference support by the OFP creates the appearance of OFP co-sponsorship. Therefore, there will be active participation by OFP in the development and approval of the conference agenda. OFP funds will be expended only for approved portions of the funded conference program activity.

OFP provides grant support to public and private non-profit agencies to support the delivery of family planning and related preventive health services to those in need of such services. In addition, OFP supports public information and education activities, as well as applied research in order to support effective, evidence-based public health strategies and practices by its service grantees. Through the support of conferences and meetings, including symposia, seminars and workshops (not as part of series) in the area of family planning research, education, program development and prevention application, OFP is meeting its overall training goals. OFP believes that conferences and similar meetings permit individuals who are engaged in family planning service delivery, related research, and policy to interact. This is critical for the development and implementation of effective family planning programs.

Conference Support Topics of Interest

Applications for conference support activities must address topic areas that are consistent with the goals and mission of the Title X family planning program and should reflect HHS’ Departmental Priorities. Examples of possible topics include (but are not limited to) the following:

• Program coordination with adolescent abstinence education programs and/or approaches for effective integration of adolescent abstinence education and counseling services in the family planning clinic setting;

• Models for implementation of the “ABC” approach to HIV/AIDS prevention, education and counseling in family planning settings. That is, for adolescents and unmarried individuals, the message is “A” for abstinence; for married or individuals in committed relationships, the message is “B” for being faithful; and, for individuals who engage in behavior that puts them at risk for HIV, the message is “C” for condom use;

• Couples-based service delivery and counseling, including services to improve communication for effective and consistent family planning method use;

• Linkages with other public health delivery systems—integration of family planning with primary care in community health centers, alcohol and substance abuse prevention and treatment programs, family and intimate family violence prevention, community-based abstinence education services, HIV and STD prevention and treatment services, or training on infant adoption counseling;

• Parental involvement in the delivery of services to adolescents, including approaches to counseling that involve families in assisting adolescent decision-making and in avoiding coercive sexual relationships;

• Use of electronic technologies to improve or support family planning program activities and management;

• Use of evidence-based information, including findings from recent research, to improve or support the delivery of family planning services;

• Best practice approaches to specific issues relevant to the delivery of family planning clinical services and related preventive health care, e.g., cervical cancer screening and patient management, or the delivery of reproductive health services to HIV positive individuals;

• The development and implementation of quality assurance and performance measurement systems in family planning programs;

• Training, counseling or other program approaches to ensure compliance with state reporting laws regarding child abuse, child molestation, sexual abuse, rape or incest; and

• Population specific issues in the delivery of family planning services—women's reproductive health, men's reproductive health, contraceptive updates, hard-to-serve populations, sexually active adolescents, or populations with Limited English Proficiency.

Conference Requirements

Grantees must meet the following requirements:

1. The conference organizer(s) may use OFP's name only in factual publicity for the conference. The materials developed as part of the conference program activities supported under this grant announcement need to include a statement clarifying that OFP funding of the conference activity does not constitute OFP's endorsement of the organizer's general policies, activities, products, or the content of speakers' presentations.

2. Any conference co-sponsored under this announcement shall be held in facilities that are fully accessible to the public as required by the Americans with Disabilities Act Accessibility Guidelines (ADAAG).

3. Manage all activities related to program content (e.g., objectives, topics, attendees, session design, workshops, special exhibits, speaker's fees, agenda composition, and printing). Many of these items may be developed in concert with assigned OFP project personnel.

4. Provide draft copies of the conference agenda, and proposed program content as described in item #3 to OFP for approval 45 days prior to the conference event. All but 10 percent of the total funds awarded for the proposed conference will be initially restricted pending OFP approval of a full, final agenda. The remaining 90 percent of funds will be released by letter to the grantee upon approval of the final agenda. OFP reserves the right to terminate co-sponsorship at any time.

5. Determine and manage all promotional activities (e.g., title, logo, announcements, mailers, press, etc.). OFP must review and approve any materials with reference to OFP involvement or support.

6. Manage all registration processes with participants, invitees, and registrants (e.g., travel, reservations, correspondence, conference materials and handouts, badges, registration procedures, etc.).

7. Plan, negotiate, and manage conference site arrangements, including all audio-visual needs.

8. Analyze data from conference activities that pertain to OFP funded activities, and submit a written report to the OFP project officer within 60 after the completion of the conference.

Use of Funds

1. Funds may be used for direct cost expenditures: Salaries; speaker fees (for services rendered); rental of necessary conference—related equipment; registration fees; and transportation costs (not to exceed economy class fare) for non-Federal individuals.

2. Funds may be used for only those parts of the conference specifically supported by OPA/OFP as documented in the grant award.

3. Funds may not be used for the purchase of equipment; payments of honoraria (for conferring distinction); alterations or renovations; organizational dues; support entertainment or personal expenses; cost of travel and payment of a Federal employee; per diem or expenses for local participants (other than local mileage). Travel for Federal employees will be supported by the employees' Federal agency.

4. Funds may not be used for reimbursement of indirect costs.

5. OPA/OFP will not fund a conference after it has taken place.

6. Federal funds may not be used to fund novelty items or souvenirs.

Application Content

Applications must include the following information:

1. Summary of conference format—projected agenda (including list of principal areas or topics to be addressed), including speakers or facilitator. Information should also be provided about all other national, regional, and local conferences held on the same or similar subject during the last three years. The summary should include a one-page cover sheet with the following information:

a. Name of organization (Primary contact person's name, mailing address, telephone number, and fax number and e-mail address, if available).

b. Name of conference.

c. Location of conference.

d. Date(s) of conference.

e. Intended audience and number of conference attendees.

f. Dollar amount requested.

g. Total conference budget amount.

2. A clear statement of the need for and purpose of the conference, and the principal area(s) or topic(s) to be addressed in the conference, as well as the specific conference program activity for which support is being sought. Justification for the conference should describe the issues it intends to clarify and the developments it may stimulate, and a full description of your organization's purpose, mission and experience related to the proposed conference topic.

3. A proposed or final conference agenda must be included. Include information about the location of city, state, and physical facilities required for the conduct of the meeting, as well as the title of the proposed conference (conference, symposium, workshop, or similar designation) and the scope of the conference (national, regional, local).

4. An elaboration on the overall conference objectives, the objectives for the conference program activities for which OFP support is being sought, the target audience, and expected products (e.g., conference proceedings or final report) should be included. This statement should describe any issues or problems the conference will address or seek to solve, and the action items or resolutions it may stimulate. Include information on the expected registration, the intended audience, approximate number, and profession of persons expected to attend.

5. A clear description of the evaluation for the specific conference program activities being supported under the grant award, and how it will assess the accomplishments of the conference program objectives should be included. A sample of the evaluation instrument that will be used must be included and a step-by-step schedule and detailed operation plan of major conference planning activities necessary to attain specified objectives.

6. Biographical sketches are required for the individuals responsible for planning and implementing the conference. Experience and training related to conference planning and implementation as it relates to the proposed topic should be noted.

7. Letters of endorsement or support—Letters of endorsement or support for the sponsoring organization and its capability to perform the proposed conference activity should be included.

8. Budget plan and justification—A clearly justified budget narrative that is consistent with the purpose, objectives, and operation plan of the conference must be included. The narrative will consist of a budget that includes the share requested from this grant as well as those funds from other sources, including organizations, institutions, conference income, and/or registration fees. The application must include the estimated total cost of the conference program activity and the percentage of the total cost (which must be less than 100 percent) being requested from OFP. Requests for 100 percent funding will be considered non-responsive to this program announcement and will be returned to the applicant without review.

II. Award Information

Funding Instrument Type: Grant.

Anticipated Total Funding: $300,000.

Anticipated Number of Awards: 3-5.

Expected Amounts of Individual Awards: Range of $30,000 to 80,000.

Project Periods for Awards: 12 months.

III. Eligibility Information

1. Eligible Applicants

Any public or nonprofit private entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a grant under this announcement. Faith-based organizations are eligible to apply for family planning public education and information conference support. Awards will be made only to those organizations or agencies which have met all applicable requirements and which demonstrate the capability of providing the proposed services.

2. Cost Sharing

OPA/OFP will not fund 100 percent of any conference proposed under this announcement. Part of the cost of the proposed conference must be supported with other private or Federal funds.

3. Other

Applicants are required to have a Dun and Bradstreet Data Universal Numbering System (DUNS) number to apply for a grant or cooperative agreement from the Federal government. Organizations should verify that they have a DUNS number or take the steps needed to obtain one. The DUNS number is a nine-digit identification number, which uniquely identifies business entities. Obtaining a DUNS number is easy and there is no charge. To obtain a DUNS number, access http://www.dunandbradstreet.com or call 1-866-705-5711. Instructions for obtaining a DUNS number are also included in the application package, and may be downloaded from the OPA Web site. For more information, see the OPA Web site at: http://opa.osophs.dhhs.gov/duns.html.

IV. Application and Submission Information

1. Address To Request Application Package

Application kits may be requested from, and applications submitted to: OPHS Office of Grants Management, 1101 Wootton Parkway, Suite 550, Rockville, MD 20852: 301-594-0758. Application kits are also available online at the OPA Web site at http://opa.osophs.dhh.gov, may be requested by fax at 301-594-9399, or may be obtained through the electronic grants management system, e-Grants. (Instructions for the use of the e-Grants system can be found on the OPA Web site or requested from the OPHS Office of Grants Management.)

2. Content and Form of Application Submission

Applications must be submitted on the Form OPHS-1 (Revised 6/01) and in the manner prescribed in the application kit. Applications are limited to 50 double-spaced pages, not including appendices and required forms, using an easily readable, 12-point font. All pages, charts, figures and tables should be numbered. Appendices may provide curriculum vitae, organizational structure, examples of organizational capabilities, or other supplemental information that supports the application. All information that is critical to the proposed project should be included in the body of the application. Appendices are for supportive information only and should be clearly labeled.

Applications must include a one-page abstract of the proposed project. The abstract will be used to provide reviewers with an overview of the application, and will form the basis for the application summary in grants management documents.

A copy of the legislation and regulations governing the family planning program will be included as part of the application kit package. Applicants should use the legislation, regulations, and other information included in this announcement to guide them in developing their applications. Copies of the Title X statute, regulations, and Program Guidelines may be downloaded from the Office of Population Affairs Web site at http://opa.osophs.dhhs.gov. In responding to this announcement, applicants should also familiarize themselves with:

1. Title X Family Planning Priorities, Legislative Mandates, and Key Issues;

2. Department of Health and Human Services Departmental Priorities; and

3. Healthy People 2010—Chapter 9, “Family Planning;” Chapter 11, “Health Communication;” Chapter 13, “Sexually Transmitted Diseases;” and Chapter 25, “HIV.”

Copies of these documents are included in the application kit for this announcement.

3. Submission Dates and Times

The OFP/OPA provides multiple mechanisms for submission of applications.

Electronic Submission

The electronic grants management system, e-Grants, provides for applications to be submitted electronically. While applications are accepted in hard copy, the use of the e-Grants system is encouraged. Instructions for use of this system are available on the OPA Web site, http://opa.osophs.dhhs.gov, or may be requested from the OPHS Office of Grants Management at 301-594-0758.

The body of the application and required forms can be submitted using the e-Grants system. In addition to electronically submitted materials, applicants are required to provide a hard copy of the application face page (Standard Form 424 [Revised 7-97]) with the original signature of an individual authorized to act for the applicant agency or organization and to assume for the organization the obligations imposed by the terms and conditions of the grant award. The application is not considered complete until both the electronic application and the hard copy face page with original signature are received. Both must be received on or before the due date listed in the DATES section of this announcement.

Mailed Hard Copy Applications

Applications submitted in hard copy are required to submit an original and two copies of the application. The original application must be signed by an individual authorized to act for the applicant agency or organization and to assume for the organization the obligations imposed by the terms and conditions of the grant award. Mailed applications will be considered as meeting the deadline if they are received by the OPHS Office of Grant Management on or before the deadline listed in the DATES section of this announcement. The application due date requirement specified in this announcement supercedes the instructions in the OPHS-1. Applications that do not meet the deadline will be returned to the applicant unread.

Hand-Delivered Applications

Hand-delivered applications must be received by the OPHS Office of Grants Management, 1101 Wootton Parkway, Suite 550, Rockville, Maryland 20852, not later than 4:30 p.m. eastern standard time on the application due date. Hand-delivered applications must include an original and two copies of the application. The original application must be signed by an individual authorized to act for the applicant agency or organization and to assume for the organization the obligations imposed by the terms and conditions of the grant award.

Applications delivered to the OPHS Office of Grants Management after the deadlines described above will not be accepted for review. Applications which do not conform to the requirements of this program announcement will not be accepted for review and will be returned to the applicant.

4. Intergovernmental Review

Applicants under this announcement are subject to the requirements of Executive Order 12372, “Intergovernmental Review of Federal Programs,” as implemented by 45 CFR part 100, “Intergovernmental Review of Department of Health and Human Services Programs and Activities.” As soon as possible, the applicant should discuss the project with the State Single Point of Contact (SPOC) for the state in which the applicant is located. The application kit contains the currently available listing of the SPOCs that have elected to be informed of the submission of applications. For those states not represented on the listing, further inquiries should be made by the applicant regarding the submission to the relevant SPOC. The SPOC's should forward any comments to the OPHS Office of Grants Management, 1101 Wootton Parkway, Suite 550, Rockville, Maryland 20852. The SPOC has 60 days from the closing date of this announcement to submit any comments. For further information, contact the OPHS Office of Grants Management at 301-594-0758.

5. Funding Restrictions

The allowability, allocability, reasonableness and necessity of direct and indirect costs that may be charged to OPHS grants are outlined in the following documents: OMB Circular A-21 (Institutions of Higher Education); OMB Circular A-87 (State and Local Governments); OMB Circular A-122 (Nonprofit Organizations); and 45 CFR part 74, Appendix E (Hospitals). Copies of the Office of Management and Budget (OMB) Circulars are available on the Internet at http://www.whitehouse.gov/omb/grants/grants_circulars.html.

V. Application Review Information

1. Criteria

Eligible competing grant applications will be assessed according to the following criteria:

1. Proposed Program and Technical Approach (25 Points)

a. The public health significance of the proposed conference program activities for which OFP funding is being sought.

b. The applicant's description of the proposed conference as it relates to specific non-Federal conferences in the areas of family planning and related preventive health, including the public health need of the proposed conference and the degree to which the conference can be expected to influence public health practices. Evaluation will also be based on the extent of the applicant's collaboration with other organizations serving the intended audience. The applicant's description of conference objectives in terms of quality, specificity, and the feasibility of the conference based on the operational plan will also be evaluated.

2. Applicant's Capability and Qualifications of Program Personnel (25 Points)

The applicant's capability includes the adequacy of the applicant's resources (additional sources of funding, organization's strengths, staff time, proposed physical facilities, etc.) available for conducting conference activities.

a. The qualifications, experience, and commitment of the principal staff person, and their ability to devote adequate time and effort to provide effective leadership.

b. The competence of associate staff persons, discussion leaders, speakers, and presenters to accomplish conference objectives.

c. The degree to which the applicant demonstrates the knowledge of nationwide and educational efforts currently underway which may affect, and be affected by, the proposed conference.

3. Conference Program Objectives (25 Points)

a. The overall quality, reasonableness, feasibility, and logic of the designed conference program objectives, including the overall work plan and timetable for accomplishment.

b. The likelihood of accomplishing conference program objectives as they relate to family planning program priorities and missions and the feasibility of the project in terms of the operational plan.

4. Evaluation Methods (10 Points)

Evaluation instrument(s) for the conference should adequately assess increased knowledge, attitudes, and behaviors of the target audience.

5. Budget Justification and Adequacy of Facilities (15 Points)

The proposed budget will be evaluated on the basis of its reasonableness, concise and clear justification, and consistency with the intended use of grant funds. The application will also be reviewed as to the adequacy of existing or proposed facilities and resources for conducting conference activities.

2. Review and Selection Process

Each application submitted will be screened to determine whether it was received by the closing date and time. Applications, which meet the initial screening requirements will be reviewed by a panel of independent reviewers and will be assessed according to the criteria published in this announcement.

Final award decisions will be made by the Deputy Assistant Secretary for Population Affairs (DASPA). In making these decisions, the DASPA will take into consideration: Recommendations of the review panel; reviews for programmatic and grants management compliance; the reasonableness of the estimated cost to the government considering the available funding and anticipated results; and the likelihood that the proposed project will result in the benefits expected. Awards will be made only to those organizations or agencies which have demonstrated the capability of providing the proposed services, and which have met all applicable requirements.

VI. Award Administration Information

1. Award Notices

OPA does not release information about individual applications until final funding decisions have been made. When final decisions have been made, applicants will be notified by letter regarding the outcome of their applications. The official document notifying an applicant that a project application has been approved for funding is the Notice of Grant Award, signed by the Director of the OPHS Office of Grants Management, which specifies to the grantee the amount of money awarded, the purposes of the grant, the length of the project period, and the terms and conditions of the grant award.

2. Administrative and National Policy Requirements

In accepting this award, the grantee stipulates that the award and any activities thereunder are subject to all provisions in 45 CFR parts 74 (non-governmental) and 92 (governmental) currently in effect or implemented during the period of the grant.

The Buy American Act of 1933, as amended (41 U.S.C. 10a-10d), requires that Government agencies give priority to domestic products when making purchasing decisions. Therefore, to the greatest extent practicable, all equipment and products purchased with grant funds should be American-made.

A notice providing information and guidance regarding the “Government-wide Implementation of the President's Welfare-to-Work Initiative for Federal Grant Programs” was published in the Federal Register on May 16, 1997. This initiative was designated to facilitate and encourage grantees and their subrecipients to hire welfare recipients and to provide additional needed training and/or mentoring as needed. The text of the notice is available electronically on the OMB home page at http://www.whitehouse.gov/omb.

The HHS Appropriations Act requires that when issuing statements, press releases, requests for proposals, bid solicitations, and other documents describing projects or programs funded in whole or in part with Federal money, grantees shall clearly state the percentage and dollar amount of the total costs of the program or project which will be financed with Federal money and the percentage and dollar amount of the total costs of the project or program that will be financed by non-governmental sources.

3. Reporting

A successful applicant under this notice will submit: (a) Progress reports; (b) annual Financial Status Reports; and (c) a final progress report and Financial Status Report. Reporting formats are established in accordance with provisions of the general regulations, which apply under 45 CAR parts 74 and 92. Applicants must submit all required reports in a timely manner, in recommended formats (to be provided) and submit a final report on the project, including any information on evaluation results, at the completion of the project period. Agencies receiving $500,000 or more in total Federal funds are required to undergo an annual audit as described in OMB Circular A-133, “Audits of States, Local Governments, and Non-Profit Organizations.”

VI. Agency Contacts

OPHS Office of Grants Management Contact: Karen Campbell, Office of Grants Management, Office of Public Health and Science, Department of Health and Human Services, 1101 Wootton Parkway, Suite 550, Rockville, Maryland, 20852. E-mail: Kcampbell@osophs.dhhs.gov; telephone: 301-594-0758.

Program Office Contact: Susan Moskosky, Director, Office of Family Planning, Office of Population Affairs, Office of Public Health and Science, Department of Health and Human Services, 1101 Wootton Parkway, Suite 750, Rockville, Maryland, 20852. E-mail: SMoskosky@osophs.dhhs.gov; telephone: 301-594-4008.

Dated: April 21, 2004.
Alma L. Golden,
Deputy Assistant Secretary for Population Affairs, Office of Population Affairs.

[FR Doc. 04-10451 Filed 5-6-04; 8:45 am]

BILLING CODE 4150-34-P